DEPARTMENT OF DEFENSE

Office of the Secretary

[Docket ID: DOD-2026-OS-0200]

Proposed Collection; Comment Request

AGENCY: Office of the Under the Secretary of Defense for Personnel and Readiness OUSD(P&R)), Department of Defense (DoD).

ACTION: 60-Day information Collection Notice.

SUMMARY: In compliance with the Paperwork Reduction Act of 1995, the OUSD(P&R) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 13, 2026.

ADDRESSES: You may submit comments, identified by docket number and title, by any of the following methods:

Federal eRulemaking Portal: http://www.regulations.gov. Follow the instructions for submitting comments.

Mail: Department of Defense, Office of the Director of Administration and Management, Privacy, Civil Liberties, and Transparency Directorate, Regulatory Division, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Department of Defense Education Activity (Executive Services Division), ATTN: Christina Suarez, 4800 Mark Center Drive, Alexandria, VA 22350 or call at (571) 372-1891.

SUPPLEMENTARY INFORMATION:

Title; Associated Form; and OMB Number: Student Registration, DoDEA Form 600, and Sure Start Medical/Dental Examination, DoDEA Form 1307; OMB Control Number 0704-0495.

Needs and Uses: This information collection requirement is necessary to obtain information on Department of War military and civilian sponsors and their dependents. The information obtained from sponsors is used to determine their dependents' enrollment eligibility to attend the Department of Defense Education Activity (DoDEA) schools. This includes determination of enrollment categories, whether tuition-free or tuition-paying, space-required or space-available. Information gathered for students is used for age verification, class and transportation schedules, record attendance, absence and withdrawal, record and monitor student progress, grades, course and grade credits, educational services and placement, activities, student awards, special interest, and accomplishments.

Affected Public: Individuals or households.

Annual Burden Hours: 27,356.

Number of Respondents: 72,950.

Responses per Respondent: 1.

Annual Responses: 72,950.

Average Burden per Response: 22.5 minutes.

Frequency: Annual.

Student Registration: Respondents are sponsors of students enrolled in DoDEA Schools. All students are required to be registered to attend a DoDEA school.

Sure Start Medical/Dental Examination: Respondents are sponsors of students enrolled in the DoDEA Sure Start Program.

Dated: February 9, 2026.
Stephanie J. Bost,
Alternate OSD Federal Register Liaison Officer, Department of Defense.

[FR Doc. 2026-02732 Filed 2-10-26; 8:45 am]

BILLING CODE 6001-FR-P